DEPARTMENT OF DEFENSE

Department of the Air Force

[Docket ID USAF-2012-0026]

Submission for OMB Review; Comment Request

ACTION: Notice.

The Department of Defense has submitted to OMB for clearance the following proposal for collection of information under the provisions of the Paperwork Reduction Act (44 U.S.C. Chapter 35).

DATES: Consideration will be given to all comments received by September 3, 2013.

Title, Associated Form and OMB Number: AFROTC Scholarship Program On-line Application, OMB Number 0701-0101.

Type of Request: Reinstatement

Number of Respondents: 15,000

Responses per Respondent: 1

Annual Responses: 15,000

Average Burden per Response: 30 minutes

Annual Burden Hours: 7,500 hours

Needs and Uses: The AFROTC scholarship application is required for completion by high school seniors and recent graduates for the purpose of competing for an AFROTC 4 year scholarship. Respondents must complete and submit their application via the AFROTC.com Web site. Submitted data will be evaluated by AFROTC scholarship selections boards to determine eligibility and to select individuals for the award of a college scholarship.

Affected Public: Individuals or households

Frequency: Annually

Respondent's Obligation: Required to obtain or retain benefits

OMB Desk Officer: Ms. Jasmeet Seehra. Written comments and recommendations on the proposed information collection should be sent to Ms. Seehra at the Office of Management and Budget, Desk Officer for DoD, Room 10236, New Executive Office Building, Washington, DC 20503. You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: July 26, 2013.
Aaron Siegel,
Alternate OSD Federal Register Liaison Officer, Department of Defense.

[FR Doc. 2013-18429 Filed 7-31-13; 8:45 am]

BILLING CODE 5001-06-P